DEPARTMENT OF ENERGY

Federal Energy Regulatory Commission

[Docket No. RP93-109-019]

Southern Star Central Gas Pipeline, Inc.; Notice of Filing OF Refund Report

December 24, 2002.

Take notice that on December 17, 2002, Southern Star Central Gas Pipeline, Inc. (Southern Star) formerly Williams Gas Pipelines Central, Inc. tendered for filing, pursuant to Article III, paragraph D of the Stipulation & Agreement dated January 31, 2001, in Docket No. RP93-109-017, its refund report of environmental proceeds received from third-party insurers.

Article III states that Southern Star will allocate its pass-through of third-party environmental proceeds, if any, to Southern Star's customers based on firm reservation revenues during the twelve months ended September 30. Southern Star is herewith filing its report of third-party insurance proceeds received during the 12 months ended September 30, 2002, and the allocation, reflected on Schedule B, which sets forth the amount to be refunded to each party under the terms of this settlement. Southern Star states that it will make the refunds to each of the customers listed thereon on or before January 31, 2003.

Southern Star states that a copy of its filing was served on all jurisdictional customers and interested state commissions.

Any person desiring to protest said filing should file a protest with the Federal Energy Regulatory Commission, 888 First Street, NE., Washington, DC 20426, in accordance with section 385.211 of the Commission's rules and regulations. All such protests must be filed on or before December 31, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-32972 Filed 12-27-02; 8:45 am]

BILLING CODE 6717-01-P